DEPARTMENT OF DEFENSE

Department of the Air Force

Notice is Given of the Names of Members of a Performance Review Board for the Department of the Air Force

AGENCY: Department of the Air Force.

ACTION: Notice.

SUMMARY: Notice is given of the names of members of a Performance Review Board for the Department of the Air Force.

DATES: Effective Date: November 12, 2010.

SUPPLEMENTARY INFORMATION: Section 4314(c) (1) through (5) of Title 5, U.S.C., requires each agency to establish, in accordance with regulations, one or more Senior Executive Service performance review boards. The board(s) shall review and evaluate the initial appraisal of senior executive's performance by supervisors and make recommendations to the appointing authority or rating official relative to the performance of these executives.

The members of the 2010 Performance Review Board for the U.S. Air Force are:

1. Board President—Gen Hoffman, Commander, Air Force Materiel Command;

2. Lt Gen Atkins—Commander, 11 AF and Alaskan Command, PACOM;

3. Lt Gen Reno—Air Force Deputy Chief of Staff for Logistics, Installations and Mission Support;

4. Mr. Beyland, Assistant Deputy Chief of Staff for Manpower and Personnel;

5. Mrs. Westgate, Assistant Deputy Chief of Staff for Strategic Plans and Programs;

6. Mr. Williams, Director, Defense Contract Management Agency;

7. Mr. Tillotson, Deputy Chief Management Officer, Office of the Secretary of the Air Force;

8. Ms. Earle, Assistant Deputy Chief of Staff for Manpower and Personnel;

9. Mr. Schneider, Department of the Army, G1;

10. Ms. Gerton, Executive Deputy to the Commanding General, Army Materiel Command;

11. Mr. Murphy, Director, Intelligence Development;

12. Mr. Sciabica, Executive Director, Air Force Research Laboratory;

13. Ms. Puckett, Director, Installations and Logistics; and

14. Ms. Sisson, Director, Resources and Analysis;

Additionally, all career status Air Force Tier 3 SES members not included in the above list are eligible to serve on the 2010 Performance Review Board and are hereby nominated for inclusion on an ad hoc basis in the event of absence(s).

FOR FURTHER INFORMATION CONTACT: Please direct any written comments or requests for information to Ms. Pereuna Johnson, Chief, Sustainment Division, Senior Executive Management, AF/DPSS, 1040 Air Force Pentagon, Washington DC 20330-1040 (PH: 703-695-7677; or via e-mail at pereuna.johnson@pentagon.af.mil.)

Bao-Anh Trinh,
Air Force Federal Register Liaison Officer.

[FR Doc. 2010-28792 Filed 11-15-10; 8:45 am]

BILLING CODE 5001-10-P